DEPARTMENT OF THE INTERIOR

Bureau of Land Management

[AZ-910-0777-26-241A]

State of Arizona Resource Advisory Council Meeting

AGENCY: Bureau of Land Management, Interior.

ACTION: Arizona Resource Advisory Council Meeting notice.

SUMMARY: This notice announces a meeting of the Arizona Resource Advisory Council (RAC). The meeting will be held on July 23-24, in Payson, Arizona. The business meeting will be held from 1:00-4:00 p.m. on Monday, July 23, and 8:00 a.m.-12:00 p.m. on Tuesday, July 24. The first session will be held at Mario's Restaurant, located at 600 E. Highway 260, and the second session will be held across the street at the Inn of Payson, 801 N. B-Line Highway. The agenda items to be covered include the review of the May 16, 2001 meeting minutes; BLM State Director's Update on legislation, regulations and statewide planning efforts; Summary of the Administration's Energy Policy, Update on the Draft Las Cienegas Resource Management Plan and Environmental Impact Statement; Presentation by a Mining Representative on the Impacts of the 3809 Surface Management Regulations for Locatable Mineral Operations; RAC Discussion on the Arizona National Landscape Conservation System Strategy, and the State Director's 2002 Priorities; Update Proposed Field Office Rangeland Resource Teams; Reports from BLM Field Office Managers; Reports by the Standards and Guidelines, Recreation and Public Relations, Wild Horse and Burro Working Groups; Reports from RAC members; and Discussion of future meetings. A public comment period will be provided at 11:30 a.m. on July 24, 2001, for any interested publics who wish to address the Council.

FOR FURTHER INFORMATION CONTACT: Deborah Stevens, Bureau of Land Management, Arizona State Office, 222 North Central Avenue, Phoenix, Arizona 85004-2203, (602) 417-9215.

Michael Fisher,
Acting Arizona State Director.

[FR Doc. 01-17129 Filed 7-6-01; 8:45 am]

BILLING CODE 4310-32-P